DEPARTMENT OF TRANSPORTATION

Federal Aviation Administration

14 CFR Part 39

[Docket No. 2000-NM-61-AD; Amendment 39-11610; AD 2000-05-01]

RIN 2120-AA64

Airworthiness Directives; McDonnell Douglas MD-11 Series Airplanes

AGENCY: Federal Aviation Administration, DOT.

ACTION: Final rule; request for comments.

SUMMARY: This amendment adopts a new airworthiness directive (AD) that is applicable to certain McDonnell Douglas MD-11 series airplanes. This action requires the deactivation of the forward and center cargo control units (CCU). This amendment is prompted by a report of failure of a CCU which produced overheating of the electrical pins inside the CCU; the subsequent release of hot gases and flames ignited an adjacent insulation blanket. The actions specified in this AD are intended to prevent such conditions, which could result in smoke and fire in the cargo compartment.

DATES: Effective March 20, 2000.

Comments for inclusion in the Rules Docket must be received on or before May 2, 2000.

ADDRESSES: Submit comments in triplicate to the Federal Aviation Administration (FAA), Transport Airplane Directorate, ANM-114, Attention: Rules Docket No. 2000-NM-61-AD, 1601 Lind Avenue, SW., Renton, Washington 98055-4056.

Information pertaining to this amendment may be obtained from or examined at the FAA, Transport Airplane Directorate, 1601 Lind Avenue, SW., Renton, Washington; or at the FAA, Transport Airplane Directorate, Los Angeles Aircraft Certification Office, 3960 Paramount Boulevard, Lakewood, California.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: As part of its practice of re-examining all aspects of the service experience of a particular aircraft whenever an accident occurs, the FAA has become aware of an incident that occurred on a McDonnell Douglas Model MD-11 series airplane. This incident was a failure of the cargo control unit (CCU) assembly due to damage of the printed circuit board (PCB) in the CCU, as a result of an external short to ground on one or more of the power output lines of the alternating current. This failure resulted in overheating of the electrical pins inside the CCU, and the subsequent release of hot gases and flames through the external cover, which ignited a metallized mylar insulation blanket adjacent to the CCU. Such conditions, if not corrected, could result in smoke and fire in the cargo compartment.

This incident is not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This airworthiness directive (AD) is one of a series of actions identified during that process. The process is continuing and the FAA may consider additional rulemaking actions as further results of the review become available.

Explanation of the Requirements of the Rule

Since an unsafe condition has been identified that is likely to exist or develop on other McDonnell Douglas MD-11 series airplanes of the same type design, this AD is being issued to prevent overheating of the electrical pins inside the CCU and subsequent release of hot gases and flames, which could result in smoke and fire in the cargo compartment. This AD requires the deactivation of the forward and center CCU's.

Interim Action

This is considered to be interim action. The FAA is currently considering requiring a modification of the CCU assembly would constitute terminating action for the requirements of this AD. However, the planned compliance time for the installation of the modification is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-61-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket.

A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-05-01 McDonnell Douglas: Amendment 39-11610. Docket 2000-NM-61-AD.

Applicability: Model MD-11 series airplanes, certificated in any category, having the serial numbers listed below.

Group 1 Airplanes

48565 | 48566 | 48533 | 48549 | 48470 | 48406
48504 | 48602 | 48603 | 48571 | 48439 | 48605
48572 | 48471 | 48573 | 48600 | 48601 | 48633
48513 | 48574 | 48575 | 48542 | 48543 | 48576
48415 | 48631 | 48544 | 48632 | 48577 | 48545
48578 | 48546 | 48743 | 48744 | 48747 | 48748
48745 | 48746 | 48749 | 48579 | 48766 | 48768
48767 | 48679 | 48754 | 48623 | 48770 | 48753
48773 | 48774 | 48755 | 48758 | 48775-48779 inclusive
48624 | 48756 | 48780 | 48532

Group 2 Airplanes

48555 | 48556 | 48581 | 48630 | 48557 | 48539
48558 | 48559 | 48616 | 48560 | 48617 | 48618
48561 | 48629 | 48562 | 58563 | 48757 | 48540
48564 | 48634 | 48541 | 48798 | 48781-48792 inclusive
48794 | 48799 | 48801 | 48800 | 48802-48806 inclusive

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent overheating of the electrical pins inside the cargo control units (CCU) and subsequent release of hot gases and flames, which could result in smoke and fire in the cargo compartment, accomplish the following:

Deactivation

(a) For Group 1 airplanes: Within 15 days after the effective date of this AD, deactivate the forward and center CCU's in accordance with the following procedures:

Remove the access panel to the forward cargo compartment CCU circuit breaker panel located at fuselage station 1009.300 (right side looking aft). Pull and collar the following circuit breakers:

B1-506 | B1-489 | B1-488 | B1-487 | B1-486
B1-485 | B1-480 | B1-481 | B1-498 | B1-482
B1-500 | B1-495 | B1-499 | B1-490

Remove the access panel to the center cargo compartment CCU circuit breaker panel located at fuselage station 1701.000 (right side looking aft). Pull and collar the following circuit breakers:

B1-552 | B1-762 | B1-761 | B1-760 | B1-759
B1-758 | B1-518 | B1-519 | B1-751 | B1-520
B1-753 | B1-764 | B1-752 | B1-763

(b) For Group 2 airplanes: Within 15 days after the effective date of this AD; deactivate the forward and center CCU in accordance with the following procedures:

Remove the access panel to the forward cargo compartment CCU circuit breaker panel located at fuselage station 1009.300 (right side looking aft). Pull and collar the following circuit breakers:

B1-506 | B1-489 | B1-488 | B1-487 | B1-486
B1-485 | B1-480 | B1-481 | B1-498 | B1-482
B1-500 | B1-495 | B1-499 | B1-490

Remove the access panel to the center cargo compartment CCU circuit breaker panel located at fuselage station 1701.000 (right side looking aft). Pull and collar the following circuit breakers:

B1-552 | B1-762 | B1-761 | B1-760 | B1-759
B1-758 | B1-518 | B1-519 | B1-751 | B1-520
B1-753 | B1-764 | B1-752 |  |

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

(e) This amendment becomes effective on March 20, 2000.

Issued in Renton, Washington, on February 28, 2000.
John J. Hickey,
Manager, Transport Airplane Directorate, Aircraft Certification Service.

[FR Doc. 00-5133 Filed 3-2-00; 8:45 am]

BILLING CODE 4910-13-P